DEPARTMENT OF JUSTICE

[OMB Number 1105-NEW]

Agency Information Collection Activities; Proposed eCollection eComments Requested; New Collection; National Elder Abuse Victim Services Needs Assessment

AGENCY: Civil Division, Department of Justice.

ACTION: 60-Day notice.

SUMMARY: The Elder Justice Initiative, Civil Division, Department of Justice (DOJ) will be submitting the following information collection request to the Office of Management and Budget (OMB) for review and approval in accordance with the Paperwork Reduction Act of 1995.

DATES: Comments are encouraged and will be accepted for 60 days December 5, 2022.

FOR FURTHER INFORMATION CONTACT: If you have additional comments, especially on the estimated public burden or associated response time, suggestions, or need a copy of the proposed information collection instrument with instructions or additional information, please contact Andy Mao, National Elder Justice Coordinator, Elder Justice Initiative, 175 N Street NE, Washington, DC 20002 (phone: 202/616-0539).

SUPPLEMENTARY INFORMATION: Written comments and suggestions from the public and affected agencies concerning the proposed collection of information are encouraged. Your comments should address one or more of the following four points:

• Evaluate whether the proposed collection of information is necessary for the proper performance of the functions of the Bureau of Justice Statistics, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: New collection.

2. The Title of the Form/Collection: National Elder Abuse Victim Services Needs Assessment.

3. The agency form number, if any, and the applicable component of the Department sponsoring the collection: There is currently no agency form number.

Sponsor: Civil Division, Department of Justice.

4. Affected public who will be asked or required to respond, as well as a brief abstract: This information will be solicited from victims of elder abuse, elder justice professionals (e.g., adult protective services, law enforcement, victim services organizations, etc.) who serve elder abuse victims, representatives of federal agencies with elder justice programming, and family and friends who are oftentimes instrumental in victims' recovery and have a unique window into the needs of older victims.

The Elder Justice Initiative proposes to conduct the first National Elder Abuse Victim Services Needs Assessment, a one-time information collection. The goal of this information collection is to gain insight on how to best meet the needs of victims of elder abuse from the initial incident to investigation and prosecution (if any), through to long-term recovery, and separately for each type of elder abuse (physical abuse, psychological abuse, sexual abuse, caregiver neglect, financial exploitation, financial fraud). To accomplish this goal, the Elder Justice Initiative will: (1) conduct national surveys with elder justice professionals and federal staff, and older victims and their family and friends; and (2) conduct a series of focus groups with elder justice professionals and federal staff, and elder abuse victims and their family and friends. A targeted dissemination strategy summarizing results and recommendations will aid in elder abuse services program planning.

5. An estimate of the total number of respondents and the amount of time estimated for an average respondent to respond: There are four separate but related information collections: An estimated 1,000 elder justice professionals and federal staff with elder justice programming will complete an electronic survey estimated to take 20 minutes to complete per respondent, and an estimated 1500 older victims, their family and friends will complete a survey estimated to take 10 minutes to complete per respondent; and 15 90-minute focus groups with elder justice professionals and federal staff and 15 90-minute focus groups with older victims, their family and friends, consisting of not more than 10 participants per focus group, for a total of 300 participants. In total, 2800 individuals will participate in the National Needs Assessment.

6. An estimate of the total public burden (in hours) associated with the collection: The estimated public burden associated with this collection is 1,033 hours (see Table 1 for calculation).

Table 1—Estimates of Hour Burden Including Annualized Hourly Costs
Task | Estimated time (minutes) | Total participants | Total minutes per task
Surveys of elder justice professionals and federal staff | 20 | 1000 | 20,000
Surveys of older victims and their family and friends | 10 | 1500 | 15,000
Focus Groups (elder justice professionals and federal staff; older victims, family and friends | 90 | 300 | 27,000
Total |  |  | 62,000 (1,033 hrs)

If additional information is required contact: Robert Houser, Department Clearance Officer, Policy and Planning Staff, Justice Management Division, United States Department of Justice, Two Constitution Square, 145 N Street NE, 3E.206, Washington, DC 20530.

Dated: September 30, 2022.
Robert Houser,
Department Clearance Officer for PRA, U.S. Department of Justice.

[FR Doc. 2022-21708 Filed 10-5-22; 8:45 am]

BILLING CODE 4410-12-P